DEPARTMENT OF HOUSING AND URBAN DEVELOPMENT

[Docket No. FR-4644-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs,or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Space Management, SVC-140, Transportation Administrative Service Center, Department of Transportation, 400 7th Street, SW., Room 2310, Washington, DC 20590; (202) 366-4246; GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: July 12, 2001.
John D. Garrity,
Director, Office of Special Needs Assistance Programs.

Suitable/Available Properties

Land (by State)

Alaska

05.5 acres

Harding Lake Recreation Site, Richardson Highway

Salcha Co: AK 99714-

landholding Agency: GSA

Property Number: 54200130001

Status: Underutilized

Comment: No utilities, zoned for outdoor recreation

GSA Number: 9-D-AK-761

Summary of Suitable/Available Properties

Total number of Properties = 1

Unsuitable Properties

Buildings (by State)

Alabama

Federal Building

999 West Main Street

Centre Co: Cherokee AL 35960-

Landholding Agency: GSA

Property Number: 54200130003

Status: Excess

Reason: Within airport runway clear zone GSA Number: 4-G-AL-770

California

Bldg. 36

Marine Corps Logistics Base

Barstow Co: San Bernardino CA 92311-

Landholding Agency: Navy

Property Number: 77200130001

Status: Unutilized

Reason: Extensive deterioration

Bldgs. 60, 61, 64, 65

Marine Corps Logistics Base

Barstow Co: San Bernardino CA 92311-

Landholding Agency: Navy

Property Number: 77200130002

Status: Unutilized

Reason: Extensive deterioration

Bldg. 171

Marine Corps Logistics Base

Barstow Co: San Bernardino CA 92311-

Landholding Agency: Navy

Property Number: 77200130003

Status: Unutilized

Reason: Extensive deterioration

Bldg. 278

Marine Corps Logistics Base

Barstow Co: San Bernardino CA 92311-

Landholding Agency: Navy

Property Number: 77200130004

Status: Unutilized

Reason: Extensive deterioration

Bldg. 351

Marine Corps Logistics Base

Barstow Co: San Bernardino CA 92311-

Landholding Agency: Navy

Property Number: 77200130005

Status Unutilized

Reason: Extensive deterioration

Bldg. 130

Naval Station

San Diego Co: CA 92132-

Landholding Agency: Navy

Property Number: 77200130006

Status: Excess

Reason: Extensive deterioration

Bldg. 415

Naval Station

San Diego Co: CA 92132-

Landholding Agency: Navy

Property Number: 77200130007

Status: Excess

Reason: Extensive deterioration

Structure 20104

Naval Air Weapons Station

China Lake Co: CA 93555-6100

Landholding Agency: Navy

Property Number: 77200130008

Status: Excess

Reason: Extensive deterioration

Structure 31424

Naval Air Weapons Station

China Lake Co: CA 93555-6100

Landholding Agency: Navy

Property Number: 77200130009

Status: Excess

Reason: Extensive deterioration

Structure 31592

Naval Air Weapons Station

China Lake Co: CA 93555-6100

Landholding Agency: Navy

Property Number: 77200130010

Status: Excess

Reason: Extensive deterioration

Facility 26

Naval Weapons Station

Seal Beach Co: CA 90740-5000

Landholding Agency: Navy

Property Number: 77200130011

Status: Unutilized

Reason: Secured Area

Bldg. 114

Naval Air Facility

El Centro Co: Imperial CA 92243-

Landholding Agency: Navy

Property Number: 77200130016

Status: Unutilized

Reason: Extensive deterioration

Bldg. 375

Naval Air Facility

El Centro Co: Imperial CA 92243-

Landholding Agency: Navy

Property Number: 77200130017

Status: Unutilized

Reason: Extensive deterioration

Bldg. 376

Naval Air Facility

El Centro Co: Imperial CA 92243-

Landholding Agency: Navy

Property Number: 77200130018

Status: Unutilized

Reason: Extensive deterioration

District of Columbia

Bldg. A-065

Naval District—Anacostia

Washington Co: DC 20374-

Landholding Agency: Navy

Property Number: 77200130019

Status: Unutilized

Reason: Extensive deterioration

Florida

Bldg. 172

Naval Air Station

Jacksonville Co: Duval FL 32212-

Landholding Agency: Navy

Property Number: 77200130012

Status: Unutilized

Reason: Extensive deterioration

Maryland

Bldg. 105

Naval Air Station

Patuxent River Co: MD 20670-

Landholding Agency: Navy

Property Number: 77200130020

Status: Excess

Reason: Extensive deterioration

Bldg. 117A

Naval Air Station

Patuxent River Co: MD 20670-

Landholding Agency: Navy

Property Number: 77200130021

Status: Excess

Reason: Extensive deterioration

Bldg. 117

Naval Air Station

Patuxent River Co: MD 20670-

Landholding Agency: Navy

Property Number: 77200130022

Status: Excess

Reason: Extensive deterioration

Bldg. 405

Naval Air Station

Patuxent River Co: MD 20670-

Landholding Agency: Navy

Property Number: 77200130023

Status: Excess

Reason: Extensive deterioration

Bldg. 454

Naval Air Station

Patuxent River Co: MD 20670-

Landholding Agency: Navy

Property Number: 77200130024

Status: Excess

Reason: Extensive deterioration

Michigan

Station/boathouse Bldg

USCG Harbor Beach Station

Harbor Beach Co: Huron MI 48441-

Landholding Agency: DOT

Property Number: 87200130001

Status: Unutilized

Reason: Floodway, Extensive deterioration

New Jersey

Nike Battery Site 41/43

Lot 17 Williamstown Chews Landing Road

Gloucester Co: Camden NJ

Location: Village of Sicklerville

Landholding Agency: GSA

Property Number: 54200130002

Status: Excess

Reason: Extensive deterioration

GSA Number: 1-GR-NJ-0537

Land (by State)

Puerto Rico

330 acres

Naval Radio Transmitter Facility

Aguada Co: PR 00602-

Landholding Agency: Navy

Property Number: 77200130013

Status: Underutilized

Reasons: Floodway

Secured Area

242 acres

Naval Radio Transmitter Facility

Salinas Co: PR 00751-

Landholding Agency: Navy

Property Number: 77200130014

Status: Underutilized

Reasons: Floodway

Secured Area

408 acres

Naval Radio Transmitter Facility

Isabela Co: PR 00662-

Landholding Agency: Navy

Property Number: 77200130015

Status: Underutilized

Reasons: Secured Area

[FR Doc. 01-18021 Filed 7-19-01; 8:45 am]

BILLING CODE 4210-29-M